DEPARTMENT OF DEFENSE

Office of the Secretary

[Docket ID: DoD-2025-HA-0210]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by January 8, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Provider Beliefs Regarding the Deadlift and their Effect on Patient Management; OMB Control Number 0720-PBRD.

Type of Request: New.

Number of Respondents: 875.

Responses per Respondent: 1.

Annual Responses: 875.

Average Burden per Response: 10 minutes.

Annual Burden Hours: 146.

Needs and Uses: The United States Army implemented the Army Combat Fitness Test (ACFT) as the fitness test of record in October 2020. The ACFT contains six events, including the maximum deadlift (MDL), which is a three-repetition maximum lift using a hex (or trap) style bar. Currently, there is a paucity of literature regarding healthcare provider beliefs and the deadlift exercise. Despite limited evidence of positive association for lumbopelvic injuries and deadlift, there are concerns about the deadlift being a part of the ACFT. Given the mandatory nature of the MDL as part of the Army's annual fitness requirement, it is imperative to understand the beliefs providers possess as patients are likely to seek them out following an episode of low back pain. Their beliefs may significantly influence treatment behaviors which could positively or negatively affect patient outcomes which may affect days on limited duty, deploy ability statistics, and/or return to duty rates, all of which directly influence military readiness. The primary aim of the survey is to assess if provider beliefs regarding the deadlift exercise differ among various healthcare provider disciplines within the military healthcare system and assess if these differences are consistent with validated treatment orientations for lower back pain, and if differences in beliefs influence treatment behaviors for a patient presenting with a deadlift injury.

Affected Public: Individuals or households.

Frequency: As required.

Respondent's Obligation: Voluntary.

DOD Clearance Officer: Mr. Reginald Lucas.

Dated: December 5, 2025.
Stephanie J. Bost,
Alternate OSD Federal Register Liaison Officer, Department of Defense.

[FR Doc. 2025-22355 Filed 12-8-25; 8:45 am]

BILLING CODE 6001-FR-P